Title 3—

The President

Proclamation 9424 of April 15, 2016

National Park Week, 2016

By the President of the United States of America

A Proclamation

Our National Parks have allowed generations to discover history, nature, and wildlife in irreplaceable ways. From the highest peaks of Denali to the lowest dips of the Grand Canyon, families around our country enjoy the splendor of the outdoors. Throughout National Park Week, as we celebrate the ways in which our treasured outdoor spaces enrich our lives and uplift our spirits, the National Park Service will again offer free admission to America's National Parks so more people can explore our country's vast natural beauty.

National Parks provide unique opportunities to connect with one another and the world around us, and my Administration has encouraged more Americans to take advantage of these wonders. Through the “Find Your Park” campaign, we are helping more people visit public lands and landmarks—from State and local parks that capture our Nation's natural beauty to historical sites that offer unparalleled perspectives into our past. Whether breathtaking sceneries or rushing bodies of water, our National Parks have something for everyone—young and old—and I am committed to helping all Americans discover the outdoors and interact with our unique and magical landscapes.

Exposure to the outdoors can stimulate thought and inspiration, and my Administration has been working to provide more of our young people with the opportunity to grow to learn and love our National Parks. We launched the “Every Kid in a Park” initiative, giving all fourth grade students and their families free admission to our parks and other Federal lands and waters. Our parks are beloved parts of America, and ensuring their survival for generations to come is imperative, which is why I have acted to protect more public land and water than any President in history—more than 265 million acres—and I have called on the Congress to boost maintenance and modernization of our National Parks so our children and grandchildren will be able to enjoy their magnificence. And because we must protect the one and only planet we have, my Administration will continue working to combat climate change.

This week, in honor of the upcoming National Park Service (NPS) centennial and the rich heritage the NPS has helped protect, let us embrace the opportunity to participate in a variety of scientific, artistic, and athletic activities in our National Parks. And together, let us recommit to promoting environmental stewardship and conserving our public lands so all our daughters and sons can experience the grandeur of our outdoor spaces for years to come.

NOW, THEREFORE, I, BARACK OBAMA, President of the United States of America, by virtue of the authority vested in me by the Constitution and the laws of the United States, do hereby proclaim April 16 through April 24, 2016, as National Park Week. I encourage all Americans to visit their National Parks and be reminded of these unique blessings we share as a Nation.

IN WITNESS WHEREOF, I have hereunto set my hand this fifteenth day of April, in the year of our Lord two thousand sixteen, and of the Independence of the United States of America the two hundred and fortieth.

[FR Doc. 2016-09342

Filed 4-19-16; 11:15 am]

Billing code 3295-F6-P